NATIONAL AERONAUTICS AND SPACE ADMINISTRATION

[Notice (01-112)]

Notice of Prospective Patent License

AGENCY: National Aeronautics and Space Administration.

ACTION: Notice of Prospective Patent License.

SUMMARY: NASA hereby gives notice that Six D, Inc., of Honolulu, HI has applied for an exclusive license to practice the inventions disclosed in U.S. Patent Nos. 5,426,512 and 5,629,780 both entitled “Image Data Compression Having Minimum Perceptual Error” (DCTune) which are assigned to the United States of America as represented by the Administrator of the National Aeronautics and Space Administration. Written objections to the prospective grant of a license should be sent to Ames Research Center.

DATES: Responses to this notice must be received by October 4, 2001.

FOR FURTHER INFORMATION CONTACT: Robert Padilla, Patent Counsel, NASA Ames Research Center, Mail Stop 202A-3, Moffett Field, CA 94035-1000, telephone (650) 604-5104.

Dated: September 13, 2001.
Edward A. Frankle,
General Counsel.

[FR Doc. 01-23346 Filed 9-18-01; 8:45 am]

BILLING CODE 7510-01-P